DEPARTMENT OF DEFENSE

Office of the Secretary

[DoD-2007-OS-0136]

Defense Transportation Regulation, Part IV

AGENCY: Department of Defense; United States Transportation Command (USTRANSCOM).

ACTION: Notice; correction.

SUMMARY: The Department of Defense is correcting a Notice to Defense Transportation Regulation, Part IV that appeared on April 1, 2008 (73 FR 17327). The document corrects the docket number and comment period.

DATES: This correction is effective April 1, 2008.

FOR FURTHER INFORMATION CONTACT: Mr. Jim Teague, United States Transportation Command, TCJ5/4-PT, 508 Scott Drive, Scott Air Force Base, IL 62225-5357; (618) 229-1985 or Ms. Rosia Lindsey, Surface Deployment and Distribution Command, SDDC-PPP-OPS, 709 Ward Drive, Bldg. 1990, Scott Air Force Base, IL 62225; (618) 220-5484.

Correction

In the Federal Register of April 1, 2008, in FR Doc. E8-6660. on page 17327, correct the docket number and public comment period to read as follows:

1. “[DoD-2007-OS-0137]” is corrected to read “[DoD-2007-OS-0136]”.

2. The comment period is corrected to read “June 6, 2008”.

Dated: April 1, 2008.
L.M. Bynum,
Alternate OSD Federal Register Liaison Officer, Department of Defense.

[FR Doc. E8-7158 Filed 4-4-08; 8:45 am]

BILLING CODE 5001-06-P